DEPARTMENT OF JUSTICE

Notice Of Proposed Agreement Regarding Alleged Non-Compliance with Consent Decree in United States v. Mack Trucks, Inc.

Notice is hereby given of a proposed Agreement Regarding Alleged Non-Compliance with Consent Decree (“Agreement”) in the case of United States v. Mack Trucks, Inc., Civil Action No. 98-01495, in the United States District Court for the District of Columbia. The agreement was filed on May 7, 2008.

The Agreement resolves a matter involving Mack's alleged failure to comply with a 1999 Consent Decree settling claims under Title II of the Clean Air Act, 42 U.S.C. 7521 et seq. (the “Act”), regarding the alleged use of illegal emission-control “defeat devices” on Mack's 1998 and prior heavy-duty diesel engines (“HDDEs”). Specifically at issue is Mack's omission of 5786 engines from its Low NOX Rebuild Program.

This violation is addressed through Mack's payment of an agreed penalty in the amount of $300,000, to be shared between the United States and the California Air Resources Board. Mack will also conduct a campaign to install 1200 additional Low NOX reflashes on eligible engines.

The Department of Justice will receive for a period of thirty (30) days from the date of this publication comments relating to the Agreement. Comments should be addressed to the Assistant Attorney General, Environment and Natural Resources Division, P.O. Box 7611, U.S. Department of Justice, Washington, DC 20044-7611, or e-mailed to pubcomment-ees.enrd@usdoj.gov and should refer to United States v. Mack Trucks, Inc., D.J. Ref. 90-5-2-1-2251.

During the public comment period, the Agreement may be examined on the following Department of Justice Web site, http://www.usdoj.gov/enrd/Consent_Decrees.html.

A copy of the Agreement may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy of the Decree from the Consent Decree Library, please enclose a check in the amount of $2.50 (25 cents per page reproduction cost for 10 pages) payable to the U.S. Treasury, or if by e-mail or fax, forward a check in that amount to the Consent Decree Library at the stated address.

Karen Dworkin,
Assistant Chief, Environmental Enforcement Section.

[FR Doc. E8-10621 Filed 5-12-08; 8:45 am]

BILLING CODE 4410-15-P